DEPARTMENT OF ENERGY

Federal Energy Regulatory Commission

Combined Notice of Filings

Take notice that the Commission has received the following Natural Gas Pipeline Rate and Refund Report filings:

Filings Instituting Proceedings

Docket Numbers: RP24-1094-000.

Applicants: Eastern Shore Natural Gas Company.

Description: 4(d) Rate Filing: Negotiated Rate Filing—CUC-DE to be effective 11/1/2024.

Filed Date: 9/27/24.

Accession Number: 20240927-5061.

Comment Date: 5 p.m. ET 10/9/24.

Docket Numbers: RP24-1095-000.

Applicants: WBI Energy Transmission, Inc.

Description: 2024 Penalty Revenue Crediting Report of WBI Energy Transmission, Inc.

Filed Date: 9/27/24.

Accession Number: 20240927-5076.

Comment Date: 5 p.m. ET 10/9/24.

Docket Numbers: RP24-1096-000.

Applicants: Transcontinental Gas Pipe Line Company, LLC.

Description: 4(d) Rate Filing: DPEs—REA Project In-Svc to be effective 10/28/2024.

Filed Date: 9/27/24.

Accession Number: 20240927-5094.

Comment Date: 5 p.m. ET 10/9/24.

Docket Numbers: RP24-1097-000.

Applicants: Tuscarora Gas Transmission Company.

Description: Compliance filing: 2024 Fuel and Line Loss Report to be effective N/A.

Filed Date: 9/27/24.

Accession Number: 20240927-5108.

Comment Date: 5 p.m. ET 10/9/24.

Docket Numbers: RP24-1098-000.

Applicants: El Paso Natural Gas Company, L.L.C.

Description: 4(d) Rate Filing: Non-Conforming Agreement Filing (Saavi_JP Morgan 2024) to be effective 10/1/2024.

Filed Date: 9/27/24.

Accession Number: 20240927-5146.

Comment Date: 5 p.m. ET 10/9/24.

Docket Numbers: RP24-1099-000.

Applicants: Tennessee Gas Pipeline Company, L.L.C.

Description: 4(d) Rate Filing: CIMA ENERGY, LP—SP422575/SP396875 to be effective 10/1/2024.

Filed Date: 9/27/24.

Accession Number: 20240927-5154.

Comment Date: 5 p.m. ET 10/9/24.

Docket Numbers: RP24-1100-000.

Applicants: El Paso Natural Gas Company, L.L.C.

Description: 4(d) Rate Filing: Non-Conforming Agreement Filing (Mieco 2024) to be effective 11/1/2024.

Filed Date: 9/27/24.

Accession Number: 20240927-5159.

Comment Date: 5 p.m. ET 10/9/24.

Docket Numbers: RP24-1101-000.

Applicants: Enable Gas Transmission, LLC.

Description: 4(d) Rate Filing: Fuel Tracker Filing—Effective November 1, 2024 to be effective 11/1/2024.

Filed Date: 9/30/24.

Accession Number: 20240930-5062.

Comment Date: 5 p.m. ET 10/15/24.

Docket Numbers: RP24-1102-000.

Applicants: Enable Mississippi River Transmission, LLC.

Description: 4(d) Rate Filing: 2024 MRT Annual Fuel Filing to be effective 11/1/2024.

Filed Date: 9/30/24.

Accession Number: 20240930-5064.

Comment Date: 5 p.m. ET 10/15/24.

Docket Numbers: RP24-1103-000.

Applicants: Columbia Gas Transmission, LLC.

Description: 4(d) Rate Filing: Columbia Gas Section 4 Rate Case (1 of 2) to be effective 11/1/2024.

Filed Date: 9/30/24.

Accession Number: 20240930-5069.

Comment Date: 5 p.m. ET 10/15/24.

Docket Numbers: RP24-1104-000.

Applicants: Eastern Gas Transmission and Storage, Inc.

Description: 4(d) Rate Filing: EGTS—2024 Annual EPCA to be effective 11/1/2024.

Filed Date: 9/30/24.

Accession Number: 20240930-5086.

Comment Date: 5 p.m. ET 10/15/24.

Docket Numbers: RP24-1105-000.

Applicants: Algonquin Gas Transmission, LLC.

Description: 4(d) Rate Filing: Negotiated Rates—Eversource to Emera Energy eff 9-28-24 to be effective 9/28/2024.

Filed Date: 9/30/24.

Accession Number: 20240930-5090.

Comment Date: 5 p.m. ET 10/15/24.

Docket Numbers: RP24-1106-000.

Applicants: Adelphia Gateway, LLC.

Description: 4(d) Rate Filing: Adelphia Gateway General Section 4 Rate Case Filing to be effective 4/1/2025.

Filed Date: 9/30/24.

Accession Number: 20240930-5096.

Comment Date: 5 p.m. ET 10/15/24.

Docket Numbers: RP24-1107-000.

Applicants: Panhandle Eastern Pipe Line Company, LP.

Description: 4(d) Rate Filing: Fuel Filing on 9-30-24 to be effective 11/1/2024.

Filed Date: 9/30/24.

Accession Number: 20240930-5105.

Comment Date: 5 p.m. ET 10/15/24.

Docket Numbers: RP24-1108-000.

Applicants: Rover Pipeline LLC.

Description: 4(d) Rate Filing: Fuel Filing on 9-30-24 to be effective 11/1/2024.

Filed Date: 9/30/24.

Accession Number: 20240930-5106.

Comment Date: 5 p.m. ET 10/15/24.

Docket Numbers: RP24-1109-000.

Applicants: Trunkline Gas Company, LLC.

Description: 4(d) Rate Filing: Fuel Filing on 9-30-24 to be effective 11/1/2024.

Filed Date: 9/30/24.

Accession Number: 20240930-5108.

Comment Date: 5 p.m. ET 10/15/24.

Docket Numbers: RP24-1110-000.

Applicants: El Paso Natural Gas Company, L.L.C.

Description: 4(d) Rate Filing: Negotiated Rate Agreements Update (Hartree 614700 610670 Oct 2024) to be effective 10/1/2024.

Filed Date: 9/30/24.

Accession Number: 20240930-5109.

Comment Date: 5 p.m. ET 10/15/24.

Docket Numbers: RP24-1111-000.

Applicants: Eastern Gas Transmission and Storage, Inc.

Description: 4(d) Rate Filing: EGTS—2024 Annual TCRA to be effective 11/1/2024.

Filed Date: 9/30/24.

Accession Number: 20240930-5123.

Comment Date: 5 p.m. ET 10/15/24.

Docket Numbers: RP24-1112-000.

Applicants: El Paso Natural Gas Company, L.L.C.

Description: 4(d) Rate Filing: Negotiated Rate Agreement Update (Conoco Oct 2024) to be effective 10/1/2024.

Filed Date: 9/30/24.

Accession Number: 20240930-5124.

Comment Date: 5 p.m. ET 10/15/24.

Docket Numbers: RP24-1113-000.

Applicants: Gulf Run Transmission, LLC.

Description: 4(d) Rate Filing: Interim Transporter's Use Filing—Effective 11-1-2024 to be effective 11/1/2024.

Filed Date: 9/30/24.

Accession Number: 20240930-5150.

Comment Date: 5 p.m. ET 10/15/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 30, 2024.
Debbie-Anne A. Reese,
Acting Secretary.

[FR Doc. 2024-23056 Filed 10-4-24; 8:45 am]

BILLING CODE 6717-01-P